DEPARTMENT OF COMMERCE

Economic Development Administration

Notice of Petitions by Firms for Determination of Eligibility to Apply for Trade Adjustment Assistance

AGENCY: Economic Development Administration, Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility to Apply for Trade Adjustment Assistance for the Period February 21, 2007 Through March 20, 2007

Firm | Address | Date petition accepted | Product
Prier Products, Inc | 4515 E 139th St, Grandview, MO 64030 | 2/21/2007 | Freezeless hydrants and related plumbing valves.
George B. Woodcock & Co., Inc | 9667 Canoga Ave., Chatsworth, CA 91311 | 3/1/2007 | Soft manufacturing and assembly of packaging products.
Marcal Medical, Inc | 1114 Benfield Blvd., Suite H, Millersville, MD 21108 | 2/23/2007 | Specialty medical device instruments.
BSI International LLC dba Rainbow Manufacturing | 2474 Manana, Suite 120, Dallas, TX 75220 | 3/2/2007 | Unisex scrubs for medical use.
Engineered Plastic Components, Inc | 1408 Zimmerman Drive South, Grinnell, IA 50112 | 2/23/2007 | Custom injection molded plastic products.
Rich Paper Box Company and Subsidiaries aka The Rich Group, LLC | 75 Pocasset Street, Johnston, RI 02919 | 3/1/2007 | Cardboard and paper boxes and displays for various products.
Stewart Acquisition, LLC dba CIMA Plastics Group | 2146 Enterprise Parkway, Twinsburg, OH 44087 | 3/1/2007 | Non-automotive plastic injection-molded parts.
Central Minnestoa Tool & Stamping, Inc | 408 13th Ave. NW, Little Falls, MN 56345 | 3/1/2007 | Machine tooling dies and molds used to fabricate stamped metal components.
Ardisam, Inc, | 14690 Elm Street, Cumberland, WI 54829 | 3/1/2007 | Outdoor hunting and sporting goods such as metal tree stands.
Bradford Veneer & Panel Co., Inc | 1143 Clark Pond Road, North Haverhill, NH 03774 | 3/7/2007 | Custom wood products, veneers, pre-finished bedrails, machined grooved panels, and custom built plywood.
CEPS, Inc. | 4 Technology Drive, West Lebanon, NH 03784 | 3/7/2007 | Plastic injection-molding manufacturer.
Rijline Metals Arts, Inc | P.O. Box 628, Gellatin Gateway, MT 59730 | 3/8/2007 | Ornamental items of metal.
Excal, Inc, | 1 Excal Way, Mills, WY 82644 | 3/13/2007 | Brass fittings.
Astra Products, LTD | 7154 State Route 80, PO Box 848, Ravenna, OH 44266 | 3/13/2007 | PVC extrusions of vertical blinds.
Safety Components Fabric Technologies, Inc | 30 Emory Street, Greenville, SC 29605 | 3/12/2007 | Automobile airbag restraint fabrics and non-automotive technical applications.
A-1 Pattern & Foundry | 4860 Van Gordon Street, Wheat Ridge, CO 80033 | 3/16/2007 | Aluminum castings.
Regency Thermographics | 725 Clayton Ave, Waynesboro, PA 17268 | 3/16/2007 | Business stationary and other printed products.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: March 20, 2007.
William P. Kittredge,
Program Officer for TAA.

[FR Doc. E7-5467 Filed 3-23-07; 8:45 am]

BILLING CODE 3510-24-P